DEPARTMENT OF HOMELAND SECURITY

U.S. Customs and Border Protection

Approval of the Strawn Group, as a Commercial Gauger

AGENCY: U.S. Customs and Border Protection, Department of Homeland Security.

ACTION: Notice of approval of The Strawn Group, as a commercial gauger.

SUMMARY: Notice is hereby given, pursuant to CBP regulations, that The Strawn Group has been approved to gauge petroleum and certain petroleum products for customs purposes for the next three years as of October 31, 2014.

DATES: Effective Dates: The approval of The Strawn Group, as commercial gauger became effective on October 31, 2014. The next triennial inspection date will be scheduled for October 2017.

FOR FURTHER INFORMATION CONTACT: Approved Gauger and Accredited Laboratories Manager, Laboratories and Scientific Services Directorate, U.S. Customs and Border Protection, 1331 Pennsylvania Avenue NW., Suite 1500N, Washington, DC 20229, tel. 202-344-1060.

SUPPLEMENTARY INFORMATION: Notice is hereby given pursuant to 19 CFR 151.13, that The Strawn Group, 3855 Villa Ridge Road, Houston, TX 77068, has been approved to gauge petroleum and certain petroleum products for customs purposes, in accordance with the provisions of 19 CFR 151.13. The Strawn Group is approved for the following gauging procedures for petroleum and certain petroleum products per the American Petroleum Institute (API) Measurement Standards:

API chapters | Title
8.2 | Standard practice for automatic sampling of liquid petroleum and petroleum products.
8.3 | Standard practice for mixing and handling of liquid samples of petroleum and petroleum products.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to cbp.labhq@dhs.gov. Please reference the Web site listed below for a complete listing of CBP approved gaugers and accredited laboratories. http://www.cbp.gov/about/labs-scientific/commercial-gaugers-and-laboratories

Dated: April 23, 2015.
Ira S. Reese,
Executive Director,Laboratories and Scientific Services Directorate.

[FR Doc. 2015-10152 Filed 5-1-15; 8:45 am]

BILLING CODE 9111-14-P